DEPARTMENT OF DEFENSE

Department of the Navy

48 CFR Part 5215

[Docket ID: USN-2018-DARS-0021]

RIN 0703-AB13

Contracting by Negotiation

AGENCY: Department of the Navy, DoD.

ACTION: Final rule.

SUMMARY: This final rule removes the Department of the Navy (DON) regulation regarding contract by negotiation. This rule contains DON supplemental guidance to the Federal Acquisition Regulation (FAR) and Defense Federal Acquisition Regulation Supplement (DFARS) which has been superseded by existing FAR and DFARS guidance. The rule is no longer used or valid and should be removed.

DATES: This rule is effective on February 11, 2019.

FOR FURTHER INFORMATION CONTACT: Denise Randolph, 703-614-9767, Denise.Randolph@navy.mil.

SUPPLEMENTARY INFORMATION: It has been determined that publication of this CFR part removal for public comment is impracticable, unnecessary, and contrary to public interest since it is removing obsolete information. The content is duplicative of FAR Part 15 and DFARS Part 215. The clause referred to in 5215.407 has been subsumed into the instructions at FAR 15.403-5. This rule removes the superseded regulations which are obsolete.

This rule is not significant under Executive Order (E.O.) 12866, “Regulatory Planning and Review,” therefore, the requirements of E.O. 13771, “Reducing Regulation and Controlling Regulatory Costs” do not apply.

List of Subjects in 48 CFR Part 5215

Government procurement.

For reasons set out in the preamble, and under the authority at 5 U.S.C. 301, 48 CFR part 5215 is removed and reserved.

PART 5215—[REMOVED AND RESERVED]

Dated: February 5, 2019.
M.S. Werner,
Commander, Judge Advocate General's Corps, U.S. Navy, Federal Register Liaison Officer.

[FR Doc. 2019-01764 Filed 2-8-19; 8:45 am]

BILLING CODE 3810-FF-P